OFFICE OF MANAGEMENT AND BUDGET

Recommendations From the Metropolitan and Micropolitan Statistical Area Standards Review Committee to the Office of Management and Budget Concerning Changes to the 2010 Standards for Delineating Metropolitan and Micropolitan Statistical Areas

AGENCY: Executive Office of the President, Office of Management and Budget.

ACTION: Notice and request for comment.

SUMMARY: The Office of Management and Budget (OMB) requests public comment on the recommendations it has received from the Metropolitan and Micropolitan Statistical Area Standards Review Committee for changes to OMB's metropolitan and micropolitan statistical area standards. These standards determine the procedures for delineating and updating the statistical areas as new data become available, and responses to this request will be carefully considered by OMB in establishing revised standards.

DATES: Comments must be submitted in writing. To ensure consideration of comments, they must be received no later than 60 days from the publication of this notice. Because of delays in the receipt of regular mail related to security screening, respondents are encouraged to send comments electronically (see ADDRESSES, below).

ADDRESSES: Comments may be sent electronically via www.regulations.gov—a Federal E-Government website that allows the public to find, review, and submit comments on documents that agencies have published in the Federal Register and that are open for comment. Simply type “OMB-2021-0001” (including quotation marks) in the Comment or Submission search box, click “Go,” and follow the instructions for submitting comments. Comments received by the date specified above will be included as part of the official record.

Comments submitted in response to this notice may be made available to the public. For this reason, please do not include in your comments information of a confidential nature, such as sensitive personal or proprietary information. If you send an email comment, your email address will be automatically captured and included as part of the comment that is placed in the public docket. Please note that responses to this public comment request containing any routine notice about the confidentiality of the communication will be treated as public comments that may be made available to the public notwithstanding the inclusion of the routine notice.

Electronic Availability: This notice is available on the internet on the OMB website at https://www.whitehouse.gov/omb/. Federal Register notices are also available electronically at https://www.federalregister.gov/.

FOR FURTHER INFORMATION CONTACT: James D. Fitzsimmons, Chair, Metropolitan and Micropolitan Statistical Area Standards Review Committee, telephone (301) 763-1465; or Email statistical_directives@omb.eop.gov.

SUPPLEMENTARY INFORMATION:

Outline of Notice

1. Background

2. Review Process

3. Overview of Recommendations From the Metropolitan and Micropolitan Statistical Area Standards Review Committee

4. Issues for Comment

1. Background

The metropolitan area program has provided standard statistical area delineations for approximately 70 years. In the 1940s, it became clear that the value of statistics produced by Federal agencies would be greatly enhanced if agencies used a single set of geographic delineations for the Nation's largest centers of population and activity. OMB's predecessor, the Bureau of the Budget, led the effort to develop what were then called “standard metropolitan areas” in time for their use in 1950 census publications. Since then, comparable data products for metropolitan areas have been available.

The general concept of a metropolitan statistical area is that of an area containing a large population nucleus and adjacent communities that have a high degree of integration with that nucleus. The concept of a micropolitan statistical area closely parallels that of the metropolitan statistical area, but a micropolitan statistical area features a smaller nucleus.

As currently operationalized, a metropolitan statistical area must contain a Census Bureau-delineated urban area with a population of 50,000 or more, while a micropolitan statistical area must contain a Census Bureau-delineated urban area with a population of 10,000 to 49,999. (Areas delineated in annual updates based on Census Bureau place population estimates are excepted from this requirement until the following decade.)

Both metropolitan and micropolitan statistical areas are composed of entire counties (Figure 1). “Central counties” are those that have substantial population residing in the largest urban area of the metropolitan or micropolitan statistical area. “Outlying counties” qualify based on having sufficient commuting with the central county or counties of the area. Counties that do not fall within metropolitan or micropolitan statistical areas are termed “outside core based statistical area.”

The purpose of these statistical areas is unchanged from when standard metropolitan areas were first delineated: The classification provides a nationally consistent set of delineations for collecting, tabulating, and publishing Federal statistics for geographic areas.

OMB establishes and maintains these areas solely for statistical purposes. In reviewing and revising these areas, OMB does not take into account or attempt to anticipate any public or private sector nonstatistical uses that may be made of the delineations. These areas are not designed to serve as a general-purpose geographic framework applicable for nonstatistical activities or for use in program funding formulas.

2. Review Process

Periodic review of the standards is necessary to ensure their continued usefulness and relevance. OMB reviews the statistical area standards and, if warranted, revises them prior to their application to new decennial census data. The current review of the metropolitan and micropolitan statistical area standards is the seventh such review. In 2018, OMB charged the Metropolitan and Micropolitan Statistical Area Standards Review Committee with examining the 2010 metropolitan and micropolitan statistical area standards and providing recommendations on the standards scheduled to be issued no later than December 2020. Agencies represented on the review committee include the U.S. Census Bureau (Chair), Bureau of Economic Analysis, Bureau of Justice Statistics, Bureau of Labor Statistics, Bureau of Transportation Statistics, Economic Research Service, National Center for Health Statistics, Statistics of Income, and ex officio, OMB. The Census Bureau provided research support to the committee.

This notice is the first of two anticipated notices related to the review of the 2010 standards. After OMB considers the recommendations of the review committee and the comments received through this notice, any revisions to the standards will be announced in a final notice.

3. Overview of Recommendations From the Metropolitan and Micropolitan Statistical Area Standards Review Committee

The committee noted that the 2010 standards have served the Federal statistical community well over the past decade. There are aspects of the standards, however, that require evaluation in light of experiences from the implementation of the 2010 standards and continuing change in U.S. population and activity patterns.

The committee made the following recommendations in their report to OMB, available as a supplemental document to this Notice at www.regulations.gov:

(1) The minimum urban area population to qualify a metropolitan statistical area should be increased from 50,000 to 100,000 (see Appendix, Part A: Table 1 for a list of current metropolitan statistical areas likely to be among those that would be affected by this recommendation).

(2) The delineation of New England city and town areas (NECTAs), NECTA divisions, and combined NECTAs should be discontinued.

(3) Research should be undertaken on an additional, territorially exhaustive classification that covers all of the United States and Puerto Rico.

(4) The first annual delineation update of the coming decade should be combined with the decennial-based delineations.

(5) OMB should make publicly available a schedule for updates to the core based statistical areas (see proposed update schedule below).

(6) OMB should continue use of American Community Survey commuting data in measurement of intercounty connectivity, though changing societal and economic trends may warrant considering changes in the 2030 standards.

Under the recommendations of the committee, OMB would release three different types of updates, subject to the proposed standards.

(1) Annual Updates—These updates would address qualification of new metropolitan and micropolitan statistical areas and typically would affect a small number of counties. (In some years, there may be no updates warranted by the data.)

(2) Five-Year (“mid-decade”) Update—This broader update would include: Qualification of metropolitan and micropolitan statistical areas, qualification of outlying counties, merging of adjacent metropolitan or micropolitan statistical areas, qualification of principal cities, categorization of metropolitan and micropolitan statistical areas, qualification of metropolitan divisions, qualification of combined statistical areas, and titling of metropolitan and micropolitan statistical areas, metropolitan divisions, and combined statistical areas.

(3) Decennial Delineation—The initial re-delineation following adoption of revised standards would include all of the changes listed for the five-year update, plus the qualification of central counties.

The schedule for these updates as described in the attached proposed standards is as follows:

Update type | Release date
Decennial Delineation | June 2023.
Annual Update | December 2024.
Annual Update | December 2025.
Annual Update | December 2026.
Annual Update | December 2027.
Five-Year Update | December 2028.
Annual Update | December 2029.

4. Issues for Comment

OMB is seeking comments on the specific recommendations of the committee for revising the 2010 standards and their potential effects on the statistical area delineations (see Section 3 above). Comments are also sought on any other aspect of the current 2010 Standards that are of interest to reviewers, including topics such as commuting thresholds, alternative sources of data, stakeholder engagement, and procedures for OMB dissemination of updates to the delineations, as well as editorial suggestions to help improve the clarity of the standards.

Dominic J. Mancini,
Deputy Administrator.

[FR Doc. 2021-00988 Filed 1-15-21; 8:45 am]

BILLING CODE 3110-01-P